DEPARTMENT OF HOMELAND SECURITY

Transportation Security Administration

[Docket No. TSA-2006-26514]

Intent To Request Extension From OMB of One Current Public Collection of Information: Rail Transportation Security

AGENCY: Transportation Security Administration, DHS.

ACTION: 60-Day notice.

SUMMARY: The Transportation Security Administration (TSA) invites public comment on one currently approved Information Collection Request (ICR), Office of Management and Budget (OMB) control number 1652-0051, abstracted below that we will submit to OMB for an extension in compliance with the Paperwork Reduction Act (PRA). The ICR describes the nature of the information collection and its expected burden. The collection involves the submission of contact information of security coordinators (SCs) and alternate SCs from certain freight rail and passenger rail entities; reporting of significant security concerns; documenting the transfer of custody and control of certain hazardous materials rail cars; and providing location and shipping information for certain hazardous materials rail cars.

DATES: Send your comments by February 22, 2022.

ADDRESSES: Comments may be emailed to TSAPRA@dhs.gov or delivered to the TSA PRA Officer Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0051; Rail Transportation Security. TSA collects and uses information collected under 49 CFR parts 1570 and 1580 to enhance the security of the Nation's rail systems. Sections 1570.201 and 1570.203 require freight railroad carriers, certain rail hazardous materials shipper and receiver facilities, passenger railroad carriers, and rail mass transit systems to designate and submit contact information for a SC and at least one alternate SC to TSA.

Sections 1570.203 require freight railroad carriers, certain rail hazardous materials shipper and receiver facilities, passenger railroad carriers, and rail mass transit systems to report to TSA significant security concerns, which include security incidents, suspicious activities, and threat information.¹

¹ The requirements of this section also apply to certain over-the-road bus owner/operators and owner/operators of bus-only public transportation systems. The collection of information associated with bus operations is covered by OMB Control No. 1652-0066; Security Training Program for Surface Transportation Employees.

Section 1580.203 requires freight railroad carriers, hazardous materials shippers, and hazardous materials receivers in a high threat urban area (HTUA) that handle certain categories and quantities of hazardous materials set forth in § 1580.3, known as “rail security-sensitive materials” (RSSM), to provide location and shipping information on rail cars under their physical custody and control to TSA upon request. The specified categories and quantities of RSSM cover explosive materials, materials poisonous by inhalation, and radioactive materials.

Section 1580.205 requires a secure chain of physical custody for rail cars containing RSSM which, in turn, requires freight railroad carriers and certain hazardous materials shippers and receivers of RSSM to document the transfer of custody of certain rail cars in writing or electronically and to retain these records for a minimum of 60 calendar days. Specifically, § 1580.205 requires documentation of the secure exchange of custody of rail cars containing RSSM between: A rail hazardous materials shipper and a freight railroad carrier; two separate freight railroad carriers, when the transfer of custody occurs within a HTUA, or outside of an HTUA, but the rail car may subsequently enter an HTUA; and a freight railroad carrier and a rail hazardous materials receiver located within an HTUA. The documentation must uniquely identify that the rail car was attended during the transfer of custody, including car initial and number; identification of individuals who attended the transfer (names or uniquely identifying employee number); location of transfer; and date and time the transfer was completed.

The total number of respondents for this collection is 1,760, and the annual burden is approximately 112,764 hours.

Dated: December 20, 2021.
Christina A. Walsh,
TSA Paperwork Reduction Act Officer, Office of Information Technology.

[FR Doc. 2021-27876 Filed 12-22-21; 8:45 am]

BILLING CODE 9110-05-P